DEPARTMENT OF THE INTERIOR

National Park Service

National Register of Historic Places; Notification of Pending Nominations and Related Actions

Nominations for the following properties being considered for listing or related actions in the National Register were received by the National Park Service before April 5, 2008. Pursuant to section 60.13 of 36 CFR Part 60, written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by May 6, 2008.

J. Paul Loether,
Chief, National Register of Historic Places/National Historic Landmarks Program.

DISTRICT OF COLUMBIA

District of Columbia

Garden Club of America Entrance Markers at Wisconsin Avenue (Garden Club of America Entrance Markers in Washington, D.C. MPS), Wisconsin Ave. at Western Ave., Washington, 08000394

GEORGIA

Lee County

Leesburg Depot, 106 Walnut Ave. N., Leesburg, 08000395

Pike County

Barker, William, Whiskey Bonding Barn, 9450 Old Zebulon Rd., Molena, 08000396

Terrell County

Martin Elementary School, 608 Church St., Bronwood, 08000397

ILLINOIS

Kane County

Elizabeth Place, 316 Elizabeth Pl., Geneva, 08000398

Lake County

Westover Road Non-Commissioned Officers' Housing Historic District, 339-355 Westover Rd., Highwood, 08000399

Piatt County

Monticello Courthouse Square Historic District, Roughly bounded by Market, RR tracks, N. Hamilton, Independence & Marion Sts., Monticello, 08000400

MASSACHUSETTS

Essex County

Park Street Historic District, Park St. & Park Sq., Peabody, 08000401

MINNESOTA

Hennepin County

First National Bank—Soo Line Building, 101 S. 5th St., Minneapolis, 08000402

Martin County

United States Post Office, Fairmont, 51-55 Downtown Plz., Fairmont, 08000403

MISSOURI

St. Louis Independent City

Nooter Corporation Building, 1400 S. 3rd St., St. Louis (Independent City), 08000404

NEW YORK

Delaware County

Rock Valley School, 9598 Rock Valley Rd., Rock Valley, 08000406

Erie County

Williamsville Junior and Senior High School, 5950 Main St., Williamsville, 08000407

Essex County

Lake Champlain Bridge, NY 903, VT 17, Crown Point, 08000408

Orange County

Patton, James “Squire,” House, NY 207 W. of jct. with Temple Hill Rd., New Windsor, 08000409

Oswego County

Standard Yarn Company Building, 317 W. 1st St., Oswego, 08000410

Steuben County

Hammondsport Union Free School, 41 Lake St., Hammondsport, 08000411

NORTH CAROLINA

Mecklenburg County

Grace A.M.E. Zion Church, 219-223 S. Brevard St., Charlotte, 08000412

Rutherford County

Alexander Manufacturing Company Mill Village Historic District, Roughly bounded by Victory & Wilson Drs., Allen & S. Broadway Sts., Forest City, 08000413

Wake County

Ivey—Ellington House, (Wake County MPS) 135 W. Chatham St., Cary, 08000414

Wilkes County

Finley, Thomas B., House, 1014 E St., North Wilkesboro, 08000415

OREGON

Multnomah County

Jorgensen, Victor H. and Marta, House, 2643 SW. Buena Vista Dr., Portland, 08000405

VIRGINIA

Albemarle County

Kenridge, 912 Marsh Ln., Charlottesville, 08000416

Amherst County

Edge Hill, 1380 Edgehill Plantation Rd., Gladstone, 08000418

Glebe, The, 156 Patrick Henry Hwy., Amherst, 08000419

Covington Independent City

Covington High School, 530 S. Lexington Ave., Covington (Independent City), 08000417

Culpeper County

Pitts Theatre, 303-307 S. Main St., Culpeper, 08000420

Franklin County

Rocky Mount Historic District (Boundary Increase), Orchard Ave. between E. Court & Patterson Sts., Rocky Mount, 08000421

Northampton County

Arlington Archaeological Site, Address Restricted, Capeville, 08000422

Page County

Page County Bridge No. 1990, US 340, Overall, 08000423

Richmond Independent City

Jackson Ward Historic District (Boundary Increase), 400 blks. 1st, 2nd, & 3rd Sts., 106-108 E. Marshall, 411-413 N. Adams St., Richmond (Independent City), 08000424

Roanoke Independent City

Salem Avenue—Roanoke Automotive Commercial Historic District (Boundary Increase), 500 & 600 blks. Campbell Ave. & 700 blk. Patterson Ave., Roanoke (Independent City), 08000425

York County

Whitaker's Mill Archaeological Complex, Address Restricted, Williamsburg, 08000426

[FR Doc. E8-8510 Filed 4-18-08; 8:45 am]

BILLING CODE 4312-51-P